DEPARTMENT OF THE INTERIOR

U.S. Geological Survey

Announcement of National Geospatial Advisory Committee Meeting

AGENCY: U.S. Geological Survey, Interior.

ACTION: Notice of meeting.

SUMMARY: The National Geospatial Advisory Committee (NGAC) will meet on March 24-25, 2010 at the One Washington Circle Hotel, 1 Washington Circle, NW., Washington, DC 20037. The meeting will be held in the Meridian Room. The NGAC, which is composed of representatives from governmental, private sector, non-profit, and academic organizations, was established to advise the Chair of the Federal Geographic Data Committee on management of Federal geospatial programs, the development of the National Spatial Data Infrastructure, and the implementation of Office of Management and Budget (OMB) Circular A-16. Topics to be addressed at the meeting include:

—Welcome to New Committee Members

—NGAC Overview/History of Federal Geospatial Coordination

—Leadership Dialogue

—Place-Based Policies

—Subcommittee Reports

—Current FGDC Activities

—Review of FGDC Guidance/NGAC Action Plan

The meeting will include an opportunity for public comment on March 25. Comments may also be submitted to the NGAC in writing. Members of the public who wish to attend the meeting must register in advance. Please register by contacting Arista Maher at the U.S. Geological Survey (703-648-6283, amaher@usgs.gov). Registrations are due by March 19, 2010. While the meeting will be open to the public, seating may be limited due to room capacity.

DATES: The meeting will be held from 8:30 a.m. to 5 p.m. on March 24 and from 8:30 a.m. to 4:30 p.m. on March 25.

FOR FURTHER INFORMATION CONTACT: John Mahoney, U.S. Geological Survey (206-220-4621).

SUPPLEMENTARY INFORMATION: Meetings of the National Geospatial Advisory Committee are open to the public. Additional information about the NGAC and the meeting is available at http://www.fgdc.gov/ngac.

Dated: March 1, 2010.
Ken Shaffer,
Deputy Executive Director, Federal Geographic Data Committee.

[FR Doc. 2010-4664 Filed 3-4-10; 8:45 am]

BILLING CODE 4311-AM-P